DEPARTMENT OF TRANSPORTATION

Federal Highway Administration

Categorical Exclusion With Respect to the Willits Bypass Project, Willits, CA, and the Ryan Creek Fish Passage Mitigation Project

AGENCY: Federal Highway Administration (FHWA), DOT.

ACTION: Notice.

SUMMARY: This notice announces that Federal actions taken by the California Department of Transportation (Caltrans) pursuant to its assigned responsibilities under 23 U.S.C. 327 are final within the meaning of 23 U.S.C. 139 (l)(1). FHWA, on behalf of Caltrans, is issuing this notice to announce that, with respect to the State Route 101 Willits Bypass Project in Willits (Mendocino County), California, and the Ryan Creek Fish Passage Mitigation Project, a Categorical Exclusion was completed on June 3, 2014. The Categorical Exclusion was prepared in order to determine impacts of creating fish passage along Ryan Creek in Mendocino County, California, as part of the permit mitigation of the Willits Bypass Project. Based upon the analyses contained in the Categorical Exclusion, Caltrans has made the determination that the project will not have significant impacts to the environment.

FOR FURTHER INFORMATION CONTACT: John Webb, Supervisory Environmental Planner, California Department of Transportation, 703 B Street, Marysville, CA 95901, 530-741-4393, John_Webb@dot.ca.gov. Issued in Sacramento, California, July 30, 2014.

SUPPLEMENTARY INFORMATION: The Ryan Creek Fish Passage Mitigation Project is mandated as a condition of both the California Department of Fish and Wildlife June 2010 Section 1602 Streambed Alteration Agreement (1600-2010-0044-R1), as amended in March 2014, and the July 2010 Incidental Take Permit (No. 2081-2010-007-01), as amended in March 2014, issued for the Willits Bypass Project. These permits require Caltrans to improve fish passage within Ryan Creek by remediating existing barriers to fish passage where Ryan Creek flows beneath State Route (SR) 101, mitigating for the incidental take of individual Southern Oregon-Northern California Coasts (SONCC) Coho salmon. Caltrans proposes to replace the existing culverts along SR 101 at the South and North Forks of Ryan Creek to remediate existing barriers to fish passage.

The purpose of the Categorical Exclusion was to determine potential environmental impacts resulting from constructing fish passages along Ryan Creek in Mendocino County, California. Based upon the analyses contained in the Categorical Exclusion, Caltrans has made the determination that the project did not have significant impacts to the environment.

A claim seeking judicial review of the March 2014 Federal agency determination to not undertake a SEIS will be barred if the claim is not filed within 150 days of the initial publication of this notice in the Federal Register.

Copies of the Categorical Exclusion is available for review by appointment only at the following locations. Please call to make arrangements for viewing: Caltrans, District 3 Office, 703 B Street, Marysville, CA 95901, 530-741-4393, and Caltrans, District 3 Office, 2379 Gateway Oaks Drive, #150, Sacramento, CA, 916-274-0586.

(Catalog of Federal Domestic Assistance Program Number 20.205, Highway Planning and Construction. The regulations implementing Executive Order 12372 regarding intergovernmental consultation on Federal programs and activities apply to this program.)

Issued on: July 30, 2014.
Michael Duman,
Chief Operating Officer, Federal Highway Administration, Sacramento, California.

[FR Doc. 2014-18459 Filed 8-4-14; 8:45 am]

BILLING CODE 4910-22-P